DEPARTMENT OF THE INTERIOR

Fish and Wildlife Service

50 CFR Part 17

RIN 1018-AI46

Endangered and Threatened Wildlife and Plants; Proposed Designation of Critical Habitat for the Preble's Meadow Jumping Mouse

AGENCY: Fish and Wildlife Service, Interior.

ACTION: Proposed rule; extension of public comment period and notice of availability of draft economic analysis and draft environmental assessment.

SUMMARY: We, the U.S. Fish and Wildlife Service (Service), announce the availability of the draft economic analysis and draft environmental assessment for the proposal to designate critical habitat for the Preble's meadow jumping mouse (Zapus hudsonius preblei) under the Endangered Species Act of 1973, as amended. We also are providing notice of the final planned extension of the public comment period for the proposal to designate critical habitat for this species to allow all interested parties to comment on and request changes to the proposed critical habitat designation, as well as the associated draft economic analysis and environmental assessment. Over a 10-year time period, the total section 7-related direct costs associated with the Preble's meadow jumping mouse listing and critical habitat are estimated at $74 million to $172 million. Comments previously submitted need not be resubmitted as they have been incorporated into the public record as part of this extended comment period and will be fully considered in preparation of the final rule.

DATES: We will consider all comments that we receive on or before February 27, 2003. Any comments that we receive after the closing date may not be considered in the final decision on this proposal.

ADDRESSES: You may submit written comments and information to Preble's Meadow Jumping Mouse Comments, Colorado Ecological Services Field Office, U.S. Fish and Wildlife Service, 755 Parfet Street, Suite 361, Lakewood, CO 80215, or by facsimile to 303-275-2371. You may hand deliver written comments to our Colorado Ecological Services Field Office at the address given above. You may send comments by electronic mail (e-mail) to fw6_pmjm@fws.gov. See the “Public Comments Solicited” section below for file format and other information on electronic filing.

You may obtain copies of the draft economic analysis and draft environmental assessment, review comments and materials received, and review supporting documentation used in preparation of this proposed rule, by appointment, during normal business hours, at the U.S. Fish and Wildlife Service's Colorado Field Office. The documents also are available on the Internet at http://mountain-prairie.fws.gov/preble.

FOR FURTHER INFORMATION CONTACT: LeRoy Carlson, Colorado Field Supervisor, at the above address or telephone 303-275-2370.

SUPPLEMENTARY INFORMATION:

Background

The Preble's meadow jumping mouse (Preble's), a small rodent in the family Zapodidae, is known to occur only in eastern Colorado and southeastern Wyoming. It lives primarily in heavily vegetated riparian habitats and immediately adjacent upland habitats. Habitat loss and degradation caused by agricultural, residential, commercial, and industrial development resulted in the Preble's being listed as a threatened species throughout its range on May 13, 1998 (62 FR 26517).

On July 17, 2002 (67 FR 47153), we proposed to designate critical habitat for the Preble's meadow jumping mouse pursuant to the Endangered Species Act (Act) of 1973, as amended (16 U.S.C. 1531 et seq.). The proposed designation includes 19 habitat units totaling approximately 23,248 hectares (57,446 acres) found along 1,058.1 kilometers (657.5 miles) of rivers and streams in the States of Colorado and Wyoming.

Critical habitat identifies specific areas, both occupied and unoccupied, that are essential to the conservation of a listed species and that may require special management considerations or protection. If the proposed rule is made final, section 7 of the Act will prohibit destruction or adverse modification of critical habitat by any activity funded, authorized, or carried out by any Federal agency, and Federal agencies proposing actions affecting areas designated as critical habitat must consult with us on the effects of their proposed actions, pursuant to section 7(a)(2) of the Act.

Section 4 of the Act requires that we consider economic and other relevant impacts prior to making a final decision on what areas to designate as critical habitat. We have developed a draft economic analysis and environmental assessment for the proposal to designate certain areas as critical habitat for the Preble's meadow jumping mouse. We solicit data and comments from the public on these draft documents, as well as on all aspects of the proposal. We may revise the proposal, or its supporting documents, to incorporate or address new information received during the comment period. In particular, we may exclude an area from critical habitat if we determine that the benefits of excluding the area outweigh the benefits of including the area as critical habitat, provided such exclusion will not result in the extinction of the species.

Public Comments Solicited

We intend any final action resulting from this proposal to be as accurate and as effective as possible. Therefore, we solicit comments or suggestions from the public, other concerned governmental agencies, the scientific community, industry, or any other interested party concerning this proposed rule. We do not anticipate extending or reopening the comment period on the proposed rule after the comment period extension provided in this document ends (see DATES). We particularly seek comments concerning:

(1) The likely economic and other impacts on farming and ranching in Wyoming and Colorado;

(2) Costs of developing and implementing Habitat Conservation Plans for the Preble's meadow jumping mouse;

(3) Are data available to better model residential growth patterns in Boulder, Douglas, El Paso, Jefferson, Larimer, and Weld Counties, Colorado?

(4) Are data available to better model the characteristics of future developments?

(5) Are data available to better model administrative and project modification costs to developers and private landowners?

(6) Are data available to develop more accurate estimates of the number of future consultations, project modifications, and the costs for the following activities:

(i) Farm Service Agency (FSA) funding for agriculture operational improvements;

(ii) Natural Resource Conservation Service/FSA funding for voluntary conservation programs;

(iii) Grazing leases on Bureau of Land Management lands;

(iv) Utility projects, such as projects requiring a Clean Water Act section 404 permit from the Army Corps of Engineers and Federal Energy Regulatory Commission licensing of natural gas pipelines;

(v) Bank stabilization projects;

(vi) Development and implementation of Habitat Conservation Plans;

(vii) Dam/reservoir projects; and

(viii) Gravel mining projects?

(7) Specific information on additional land use practices, and current or planned activities in proposed critical habitat areas, as well as the anticipated impact of the proposed critical habitat designation on these activities.

We are also continuing to accept comments on the proposed critical habitat designation. If you wish to comment, you may submit your comments and materials concerning this proposal by any one of several methods (see ADDRESSES). If you would like to submit comments by electronic format, please submit them in ASCII file format and avoid the use of special characters and encryption. Please include your name and return e-mail address in your e-mail message.

Comments previously submitted need not be resubmitted as they have already been incorporated into the public record and will be fully considered in the final rule. Comments submitted during this comment period also will be incorporated into the public record and will be fully considered in the final rule. In order to comply with the terms of a settlement agreement, we are required to complete the final designation of critical habitat for the Preble's meadow jumping mouse by June 4, 2003 (Civil Action Number 00-D-1180). To meet this date, all comments or proposed revisions to the proposed rule, associated draft economic analysis, and environmental assessment need to be submitted to us during the comment period reopened by this document (see DATES).

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety. Comments and materials received will be available for public inspection, by appointment, during normal business hours at the above address.

Comments and materials received, as well as supporting documentation used in preparation of the proposal to designate critical habitat, will be available for public inspection, by appointment, during normal business hours at the Colorado Field Office (see ADDRESSES).

Author

The primary author of this notice is the Colorado Field Office staff (see ADDRESSES).

Authority

The authority for this action is the Endangered Species Act of 1973 (16 U.S.C. 1531 et seq.).

Dated: January 22, 2003.
Craig Manson,
Assistant Secretary for Fish and Wildlife and Parks.

[FR Doc. 03-1803 Filed 1-27-03; 8:45 am]

BILLING CODE 4310-55-P